DEPARTMENT OF ENERGY

DEPARTMENT OF THE INTERIOR

Bureau of Land Management

Notice of Availability of the Draft Programmatic Environmental Impact Statement for the Designation of Energy Corridors in Eleven Western States and Notice of Public Hearings

AGENCIES: Office of Electricity Delivery and Energy Reliability (OE), Department of Energy (DOE) and the Bureau of Land Management (BLM), Department of the Interior (DOI).

ACTION: Notice of Availability of the Draft Programmatic Environmental Impact Statement for the Designation of Energy Corridors in Eleven Western States and Notice of Public Hearings.

SUMMARY: DOE and BLM of the DOI as co-lead agencies, and the U.S. Forest Service (FS) of the Department of Agriculture, the Department of Defense (DOD), and the U.S. Fish and Wildlife Service (USFWS) of the DOI as cooperating Federal Agencies (the Agencies) announce the availability of the Draft Programmatic Environmental Impact Statement for the Designation of Energy Corridors in the 11 Western States (Draft PEIS) (DOE/EIS—0386) and the dates and locations for the public hearings to receive comments on the Draft PEIS.

The Coeur d'Alene Tribe, the California Energy Commission (CEC), the California Public Utilities Commission (CPUC), the State of Wyoming, and the Lincoln, Sweetwater, and Uinta counties and conservation districts in Wyoming are also cooperating agencies. The Department of Commerce (DOC) and the Federal Energy Regulatory Commission (FERC) are consulting agencies.

The Agencies prepared the Draft PEIS pursuant to the National Environmental Policy Act of 1969 (NEPA), as amended, 42 U.S.C. 4321 et seq., the Council on Environmental Quality NEPA regulations, 40 CFR Parts 1500-1508, the DOE NEPA regulations, 10 CFR part 1021, and 10 CFR part 1022, Compliance with Floodplain and Wetland Environmental Review Requirements, the BLM planning regulations, 43 CFR part 1600, and applicable FS planning regulations.

Section 368 of the Energy Policy Act of 2005 (EPAct 2005), Public Law 109-58, directs the Secretary of Agriculture, the Secretary of Commerce, the Secretary of Defense, the Secretary of Energy and the Secretary of the Interior, in consultation with FERC, States, tribal or local units of governments, as appropriate, affected utility industries, and other interested persons, to designate, under their respective authorities, corridors for oil, gas, and hydrogen pipelines and electricity transmission and distribution facilities on Federal land in the 11 contiguous Western States (as defined in section 103(o) of the Federal Land Policy and Management Act of 1976 (43 U.S.C. 1702(o)), perform any environmental reviews that may be required to complete the designation of such corridors, and incorporate the designated corridors into relevant agency land use and resource management plans or equivalent plans.

The 11 Western States are Arizona, California, Colorado, Idaho, Montana, Nevada, New Mexico, Oregon, Utah, Washington, and Wyoming.

DATES: The 90-day public comment period begins with the publication of the Notice of Availability of the Draft PEIS in the Federal Register by the Environmental Protection Agency and continues until February 14, 2008. See Supplementary Information section for meeting dates.

ADDRESSES: See Supplementary Information section for meeting addresses. Submit electronic comments and requests to speak at one of the public meetings on-line at http://corridoreis.anl.gov. Mail comments to: West-wide Energy Corridor Draft PEIS, Argonne National Laboratory, 9700 S. Cass Avenue, Bldg. 900, Mailstop 4, Argonne, IL 60439; or fax comments toll-free to: 1-866-542-5904. Requests to speak at one of the meetings or for more information about the Draft PEIS may also be addressed to: Ms. LaVerne Kyriss, Office of Electricity Delivery and Energy Reliability (OE-20), U.S. Department of Energy, 1000 Independence Avenue, SW., Washington, DC 20585, phone: 202-586-1056, facsimile: 202-586-8008, or electronic mail at laverne.kyriss@hq.doe.gov.

FOR FURTHER INFORMATION CONTACT: For information on the proposed project contact Ms. LaVerne Kyriss as indicated in the ADDRESSES section of this notice.

For general information on the DOE NEPA process, contact: Carol M. Borgstrom, Director, Office of NEPA Policy and Compliance (GC-20), U.S. Department of Energy, 1000 Independence Avenue, SW., Washington, DC 20585; phone: 202-586-4600 or leave a message at 800-472-2756; facsimile: 202-586-7031.

For general information on the BLM's NEPA process, contact: Ron Montagna, (202) 452-7782, or KateWinthrop, (202) 452-5051, at: BLM, WO-350, MS 1000 LS, 1849 C Street, NW., Washington, DC 20240.

SUPPLEMENTARY INFORMATION: The Agencies invite interested Members of Congress, state and local governments, other Federal agencies, American Indian tribal governments, organizations, and members of the public to provide comments on the Draft PEIS. Written and oral comments will be given equal weight, and the agencies will consider all comments received or postmarked by February 14, 2008 in preparing the Final PEIS. Comments received or postmarked after that date will be considered to the extent practicable.

Public Meetings

Public meeting dates and addresses are:

1. January 8, 2008, 2 to 5 and 6 to 8 p.m., Portland, OR: Doubletree Portland Lloyd Center, 1000 North West Multnomah and Sacramento, CA: California Energy Commission, 1516 Ninth Street.

2. January 10, 2008, 2 to 5 and 6 to 8 p.m., Seattle, WA: Renaissance Hotel Seattle, 515 Madison Street and Ontario, CA: Ayres Hotel and Suites, Ontario Airport/Convention Center, 1945 East Holt Boulevard.

3. January 15, 2008, 2 to 5 and 6 to 8 p.m., Phoenix, AZ: BLM Training Center, 9828 North 31st Avenue and Grand Junction, CO: Marriott Courtyard, 765 Horizon Drive.

4. January 17, 2008, 2 to 5 and 6 to 8 p.m., Las Vegas, NV: The Atomic Testing Museum, 1755 E. Flamingo Road and Salt Lake City, UT: Airport Hilton Hotel, 5151 Wiley Post Way.

5. January 23, 2008, 2 to 5 p.m., Window Rock, AZ: Navajo Education Center, Morgan Boulevard.

6. January 24, 2008, 2 to 5 and 6 to 8 p.m., Albuquerque, NM: Holiday Inn and Suites, 5050 Jefferson Street.

7. January 29, 2008, 2 to 5 and 6 to 8 p.m., Helena, MT: Best Western Helena Great Northern Hotel, 835 Great Northern Boulevard and Cheyenne, WY: Best Western Hitching Post Inn and Conference Center, 1700 West Lincoln Way.

8. January 31, 2008, 2 to 5 and 6 to 8 p.m., Boise, ID: Best Western Vista Inn and Conference Center, 2645 Airport Way and Denver, CO: Holiday Inn Cherry Creek, 455 South Colorado Boulevard.

9. February 5, 2008, 2 to 4 p.m., Washington, DC: Embassy Suites Washington Convention Center, 900 10th Street, NW.

Requests to speak at a specific public hearing should be received by DOE as indicated in the ADDRESSES section no later than two business days before that hearing. Requests to speak may also be made at the time of registration for the hearing(s). However, persons who have submitted advance requests to speak will be given priority if time should be limited during the hearing. Please be aware that anthrax screening delays conventional mail delivery to DOE.

The Draft PEIS consists of a stand alone Summary, the PEIS Chapters (Volume 1, 567 pages), the PEIS Appendices (Volume 2, 400 pages), and Maps (Volume 3, 131 pages). The entire Draft PEIS is available online at http://corridoreis.anl.gov or on a CD-ROM. Requests for paper copies of the Draft PEIS, or additional copies in either format should be addressed to West-wide Energy Corridor Draft PEIS, 9700 South Cass Avenue, Building 900, Mailstop 4, Argonne, IL 60439. The Draft PEIS is also available on the DOE NEPA Web site at http://www.eh.doe.gov/nepa/docs/deis/deis.html.

The Draft PEIS Volume 3 map atlas is printed on ledger-sized paper. The CD version of the Draft PEIS includes the map atlas in PDF format. The most powerful and flexible version of the map data is available on the project Web site (http://corridoreis.anl.gov). The Web site maps are available within a geographic information system (GIS) database that allows users to merge, enlarge, and view multiple map data layers. Software and instructions to use the GIS data are user friendly and available for free download from the public Web site.

The purpose and need for the Agencies' action is to implement EPAct Section 368 by designating corridors for the preferred locations of future oil, gas, and hydrogen pipelines and electricity transmission and distribution facilities and to incorporate the designated corridors into the relevant agency land use and resource management plans or equivalent plans.

Section 368 directs the Agencies to take into account the need for upgraded and new infrastructure and to take actions to improve reliability, relieve congestion, and enhance the capability of the national grid to deliver energy. This action only pertains to the designation of corridors for potential facilities on Federal lands located within the 11 Western States. In addition, this action is intended to improve coordination among the Agencies to increase the efficiency of using designated corridors.

In many areas of the United States, including the West, the infrastructure required to deliver energy has not always kept pace with growth in energy demand. The Agencies hope to improve the delivery of energy in the West, while enhancing the western electric transmission grid for the future, by establishing a coordinated network of Federal energy corridors on Federal lands in the West. The Draft PEIS analyzes the environmental impacts of designating Federal energy corridors in 11 Western States, and incorporating those designations into relevant agency land use and resource management plans or equivalent plans.

The Draft PEIS analyzes two alternatives: A No Action Alternative and the Proposed Action to designate new and locally approved energy corridors (Proposed Action). Under the No Action Alternative, Federal energy corridors mandated by EPAct Section 368 would not be designated on Federal lands in the 11 Western States; the siting and development of energy transport projects would continue under current agency procedures for granting rights-of-way (ROW), for which energy transport project applicants must satisfy the often disparate requirements of multiple agencies for the same project. There would be relatively little West-wide coordination for siting and permitting these projects to meet current and future energy needs in the 11 Western States.

Under the Proposed Action, the Agencies would designate and incorporate through relevant land use and resource management plans certain Federal energy corridors that would consist of existing, locally designated Federal energy corridors together with additional, newly designated energy corridors located on Federal land. These energy corridors would comprise a comprehensive, coordinated network of preferred locations for future energy projects that could be developed to satisfy demand for energy. Under the Proposed Action, approximately 6,055 miles of Federal energy corridors would be designated for multimodal energy transmission and transportation in the 11 Western States. The energy corridors would typically be 3,500 feet wide, though the width may vary in certain areas because of environmental, topographic or management constraints. BLM, DOD, FS and USFWS would amend their respective land use or equivalent plans to incorporate the designated energy corridors; the amendments would be effective upon signing of a Record(s) of Decision. The designation of energy corridors under the Proposed Action would require the amendment of the following land management or equivalent plans.

Land Use or Equivalent Plans Proposed for Amendment by Designating EPAct Section 368 Energy Corridors on Federal Lands in the 11 Western States ᵃ ᵇ ᶜ
State | Land use plan | Agency office(s)
Arizona | Arizona Strip RMP | BLM, Arizona Strip FO.
| Coronado NF LRMP | FS, Coronado NF.
| Glen Canyon NRA GMP | NPS, Glen Canyon NRA.
| Havasu NWR Comprehensive Conservation Plan | USFWS, Lake Havasu NWR.
| Kaibab NF LRMP | FS, Kaibab NF.
| Kingman RMP | BLM, Kingman FO, Lake Havasu FO.
| Lake Havasu RMP | BLM, Lake Havasu FO.
| Lake Mead NRA GMP | NPS, Lake Mead NRA.
| Lower Gila North MFP | BLM, Hassayampa FO.
| Lower Gila South RMP | BLM, Hassayampa FO, Lower Sonoran FO.
| Phoenix RMP | BLM, Tucson FO, Hassayampa FO, Lower Sonoran FO.
| Prescott NF LRMP | FS, Prescott NF.
| Safford RMP | BLM, Safford FO, Tucson FO.
| Apache-Sitgreaves NF LRMP | FS, Apache-Sitgreaves NF.
| Tonto NF LRMP | FS, Tonto NF.
| Yuma Proving Ground INRMP | DOD, U.S. Army, Yuma Proving Ground.
| Yuma RMP | BLM, Yuma FO.
California | Alturas RMP | BLM, Alturas FO.
| Angeles NF LRMP | FS, Angeles NF.
| Arcata RMP | BLM, Arcata FO.
| Bishop RMP | BLM, Bishop FO.
| Caliente RMP | BLM, Bakersfield FO, Bishop FO, Ridgecrest FO.
| California Desert Conservation Area Plan | BLM, Barstow FO, El Centro FO, Lake Havasu FO, Needles FO, Ridgecrest FO, Palm Springs-South Coast FO.
| Proposed Eagle Lake RMP | BLM, Eagle Lake FO.
| China Lake Naval Air Weapons Station INRMP | DOD, U.S. Navy, China Lake Naval Air Weapons Station.
| Cleveland NF LRMP | FS, Cleveland NF.
| Eastern San Diego RMP | BLM, El Centro FO.
| Havasu NWR Comprehensive Conservation Plan | USFWS, Lake Havasu NWR.
| Imperial Sand Dunes RAMP | BLM, El Centro FO.
| Inyo NF LRMP | FS, Inyo NF.
| Klamath NF LRMP | FS, Klamath NF.
| Lassen NF LRMP | FS, Lassen NF.
| Modoc NF LRMP | FS, Modoc NF.
| Proposed Alturas RMP | BLM, Alturas FO.
| Redding RMP | BLM, Redding FO.
| San Bernadino NF LRMP | FS, San Bernadino NF.
| Shasta-Trinity NF LRMP | FS, Shasta-Trinity NF.
| Proposed Sierra RMP | BLM, Folsom FO.
| Six Rivers NF LRMP | FS, Six Rivers NF.
| South Coast RMP | BLM, Palm Springs-South Coast FO.
| Tahoe NF LRMP | FS, Tahoe NF.
| Proposed Surprise RMP | BLM, Surprise FO.
| Ukiah RMP | BLM, Ukiah FO.
Colorado | Arapaho-Roosevelt NF LRMP | FS, Arapaho-Roosevelt NF.
| Glenwood Springs RMP | BLM, Glenwood Springs FO.
| Grand Junction RMP | BLM, Grand Junction FO.
| Grand Mesa-Uncompahgre-Gunnison NF LRMP | FS, Grand Mesa-Uncompahgre-Gunnison NF.
| Gunnison RMP | BLM, Gunnison FO.
| Kremmling RMP | BLM, Kremmling FO.
| Little Snake RMP | BLM, Little Snake FO.
| Curecanti NCA GMP | NPS, Curecanti NRA.
| Routt NF LRMP | FS, Medicine Bow and Routt NF, Thunder Basin NG.
| Royal Gorge RMP | BLM, Royal Gorge FO.
| Pike-San Isabel NF LRMP | FS, Pike-San Isabel NF.
| San Juan NF LRMP | FS, San Juan NF.
| San Juan/San Miguel RMP | BLM, Dolores FO, Uncompahgre FO.
| Uncompahgre Basin RMP | BLM, Uncompahgre FO.
| White River RMP | BLM, White River FO.
Idaho | Big Desert MFP | BLM, Upper Snake FO.
| Bruneau MFP | BLM, Bruneau FO.
| Cassia RMP | BLM, Burley FO.
| Coeur d'Alene RMP | BLM, Coeur d'Alene FO.
| Idaho Panhandle NF LRMP | FS, Idaho Panhandle NF.
| Jarbidge RMP | BLM, Bruneau FO, Four Rivers FO, Jarbridge FO.
| Kuna MFP | BLM, Four Rivers FO.
| Little Lost-Birch Creek MFP | BLM, Upper Snake FO.
| Malad MFP | BLM, Pocatello FO.
| Medicine Lodge RMP | BLM, Upper Snake FO.
| Monument RMP | BLM, Burley FO, Shoshone FO.
| Pocatello RMP | BLM, Pocatello FO.
| Owyhee RMP | BLM, Four Rivers FO, Owyhee FO.
| Caribou-Targhee NF LRMP | FS, Caribou-Targhee NF.
| Twin Falls MFP | BLM, Burley FO.
Montana | Beaverhead-Deerlodge NF LRMP | FS, Beaverhead-Deerlodge NF.
| Billings RMP | BLM, Billings FO.
| Dillon RMP | BLM, Dillon FO.
| Garnet RMP | BLM, Missoula FO.
| Headwaters RMP | BLM, Butte FO.
| Lolo NF LRMP | FS, Lolo NF.
Nevada | Black Rock-High Rock NCA RMP | BLM, Winnemucca FO.
| Caliente MFP | BLM, Ely FO.
| Desert NWR CC Conservation Plan | USFWS, Desert NWR.
| Egan RMP | BLM, Ely FO.
| Elko RMP | BLM, Elko FO.
| Hawthorne Army Depot INRMP | DOD, U.S. Army, Hawthorne AD.
| Humboldt-Toiyabe NF LRMP | FS, Humboldt-Toiyabe NF.
| Carson City Field Office Consolidated Resource Management Plan | BLM, Carson City FO.
| Lake Mead NRA GMP | NPS, Lake Mead NRA.
| Las Vegas RMP | BLM, Las Vegas FO.
| Nellis AFB Plan 126-4 INRMP | DOD, U.S. Air Force, Nellis AFB.
| Paradise-Denio MFP | BLM, Winnemucca FO.
| Schell MFP | BLM, Ely FO.
| Sonoma Gerlach MFP | BLM, Winnemucca FO.
| Tonopah RMP | BLM, Battle Mountain FO.
| Tuledad/Homecamp MFP | BLM, Surprise FO.
| Wells RMP | BLM, Elko FO.
New Mexico | Carlsbad RMP | BLM, Carlsbad FO.
| Farmington RMP | BLM, Farmington FO.
| Fort Bliss INRMP | DOD, U.S. Army, Fort Bliss.
| Mimbres RMP | BLM, Las Cruces DO.
| Rio Puerco RMP | BLM, Rio Puerco FO.
| Roswell RMP | BLM, Roswell FO.
| Sevilleta NWR Comprehensive Conservation Plan | USFWS, Sevilletta NWR.
| Socorro RMP | BLM, Socoro FO.
| White Sands RMP | BLM, Las Cruces DO.
Oregon | Andrews-Steens RMP | BLM, Andrews FO.
| Baker RMP | BLM, Baker FO.
| Brothers-Lapine RMP | BLM, Central Oregon FO, Deschutes FO.
| Ochocco NF LRMP | FS, Ochocco NF.
| Deschutes NF LRMP | FS, Deschutes NF.
| Eugene RMP | BLM, Upper Willamette FO.
| Fremont NF LRMP | FS, Winema-Fremont NFs.
| Klamath Falls RMP | BLM, Klamath Falls FO.
| Klamath NF LRMP | FS, Klamath NF.
| Lakeview RMP | BLM, Lakeview FO.
| Medford RMP | BLM, Ashland FO, Butte Falls FO, Glendale FO.
| Mt. Hood NF LRMP | FS, Mt. Hood NF.
| Roseburg RMP | BLM, South River FO, Swiftwater FO, Upper Willamette FO.
| Salem RMP | BLM, Cascades FO, Tillamook FO.
| Southeastern Oregon RMP | BLM, Jordan FO, Malheur FO.
| Three Rivers RMP | BLM, Three Rivers FO.
| Two Rivers RMP | BLM, Deschutes FO.
| Umatilla NF LRMP | FS, Umatilla NF.
| Upper Deschutes RMP | BLM, Deschutes FO.
| Winema NF LRMP | FS, Winema-Fremont NFs.
Utah | Ashley NF LRMP | FS, Ashley NF.
| Beaver RMP | BLM, Kanab FO.
| CBGA | BLM, Cedar City FO.
| Book Cliffs RMP | BLM, Vernal FO.
| Wasatch-Cache NF LRMP | FS, Wasatch-Cache NF.
| Diamond Mountain RMP | BLM, Vernal FO.
| Dixie NF LRMP | FS, Dixie NF.
| Fishlake NF LRMP | FS, Fishlake NF.
| Grand RMP | BLM, Moab FO.
| Grand Staircase-Escalante National Monument Management Plan | BLM, Grand Staircase-Escalante NM FO.
| House Range RMP | BLM, Fillmore FO.
| Mountain Valley MFP | BLM, Richfield FO.
| Paria MFP | BLM, Kanab FO.
| Pinyon MFP | BLM, Cedar City FO.
| Pony Express RMP | BLM, Salt Lake FO.
| Price River RMP | BLM, Price FO.
| San Juan RMP | BLM, Moab FO, Monticello FO.
| St. George (Dixie) RMP | BLM, St. George FO.
| Uinta NF LRMP | FS, Uinta NF.
| Vermillion MFP | BLM, Kanab FO.
| Warm Springs RMP | BLM, Fillmore FO.
| Zion MFP | BLM, Kanab FO.
Washington | Mount Baker-Snoqualmie NF LRMP | FS, Mount Baker-Snoqualmie NF.
| Spokane RMP | BLM, Wenatchee FO.
| Wenatchee NF LRMP | FS, Wenatchee NF.
Wyoming | Ashley NF LRMP | FS, Ashley NF.
| Cody RMP | BLM, Cody FO.
| Grass Creek RMP | BLM, Worland FO.
| Great Divide RMP | BLM, Rawlins FO.
| Green River RMP | BLM, Rock Springs FO.
| Kemmerer RMP | BLM, Kemmerer FO.
| Lander RMP | BLM, Lander FO.
| Thunder Basin National Grassland LRMP | FS, Medicine Bow and Routt NF, Thunder Basin NG.
| Platte River RMP | BLM, Casper FO.
| Washakie RMP | BLM, Worland FO.
ᵃ AFB = Air Force Base; BLM = Bureau of Land Management; CBGA = Cedar-Beaver-Garfield-Antimony; CCCP = Complex Comprehensive Conservation Plan; DO = district office; DOD = Department of Defense; FO = field office; FS = Forest Service; GMP = General Management Plan; INRMP = Integrated Natural Resources Management Plan; LMP = Land Management Plan; LRMP = Land and Resource Management Plan; MFP = Management Framework Plan; NCA = National Conservation Area; NF = National Forest; NM = National Monument; NG = National Grassland; NPS = National Park Service; NRA = National Recreation Area; NWR = National Wildlife Refuge; RAMP= Recreation Area Management Plan; RFP= Revised Forest Plan, RMP = Resource Management Plan; USFWS = U.S. Fish and Wildlife Service.
ᵇ This list represents the most current plans. This list differs in some particulars from the list in the Draft PEIS, Vol. 2, which went to print prior to these changes. Since planning is dynamic and there may also be further changes in the locations of specific corridors, the Final PEIS may also include changes in this list.
ᶜ The PEIS identifies corridors through three national wildlife refuges, administered by the U.S. Fish and Wildlife Service (USFWS). Development on these refuges may only occur if the specific proposed project is determined to be compatible with refuge purposes and the mission of the National Wildlife Refuge System. Existing refuge Comprehensive Conservation Plan(s) may require amendment should a specific project be found compatible, and subsequent right-of-way permitting by the USFWS occur.

In addition to designating Federal energy corridors through these amendments, the Agencies would establish cooperative procedures to expedite the application process for energy projects proposed to be sited within these corridors.

Under the No Action Alternative, no Federal energy corridors would be designated pursuant to Section 368. The No Action alternative represents the status quo. Siting and development would continue, likely without coordination among the Agencies, under each agency's procedures for granting ROW. It would be incorrect to assume that the No Action Alternative signifies that there will be no groundbreaking for energy projects at some point in the future.

Neither alternative authorizes site-specific energy transport projects. The Draft PEIS does not examine the environmental impacts of specific projects or related ROW that may or may not at some point be proposed for the Federal energy corridors. These projects would be subject to individual, project-specific NEPA review at the siting stage.

Although actual environmental impacts must inevitably await proposals before being analyzed, the Agencies are preparing a PEIS at the designation stage because they believe it is an appropriate time to examine the region-wide environmental concerns. The Agencies expect that the PEIS will greatly assist subsequent, site-specific analyses for individual project proposals by allowing the Agencies to incorporate this PEIS into those later analyses.

Availability of the Draft PEIS

The Agencies distributed copies of the Draft PEIS to appropriate members of Congress, state and local government officials in the 11 Western States, American Indian tribal governments, and other Federal agencies, groups, and interested parties. Copies of the document may be obtained online at the project Web site or by contacting DOE as provided in the ADDRESSES section of this notice. Copies of the Draft PEIS are also available for inspection at the Agencies' affected field office locations (see list above) within the 11 Western States and at public libraries near public meeting locations. A list of these libraries is available on the project Web site.

Issued in Washington, DC, on October 24, 2007.
Michael D. Nedd,
Assistant Director, Minerals, Realty and Resource Protection, Bureau of Land Management, Department of the Interior.
Issued in Washington, DC, on October 30, 2007.
Kevin M. Kolevar,
Assistant Secretary, Office of Electricity Delivery and Energy Reliability, Department of Energy.

[FR Doc. 07-5716 Filed 11-15-07; 8:45 am]

BILLING CODE 6450-01-P